FEDERAL COMMUNICATIONS COMMISSION

47 CFR Part 0

[DA 17-75]

List of Office of Management and Budget Approved Information Collection Requirements

AGENCY: Federal Communications Commission.

ACTION: Final rule.

SUMMARY: This document revises the Commission's list of Office of Management and Budget (OMB) approved public information collection requirements with their associated OMB expiration dates. This list will provide the public with a current list of public information collection requirements approved by OMB and their associated control numbers and expiration date as of January 31, 2017.

DATES: Effective March 10, 2017.

FOR FURTHER INFORMATION CONTACT: Walter Boswell at (202) 418-2178 or by email to walter.boswell@fcc.gov.

SUPPLEMENTARY INFORMATION: This is a summary of the Commission's Order, DA 17-75, adopted on February 27, 2017 and released on February 28, 2017. The full text of this document is available for public inspection during regular business hours in the FCC Reference Information Center, Portals II, 445 12th Street SW., Room CY-A257, Washington, DC 20554. It is available on the Commission's Web site at https://apps.fcc.gov/edocs_public/attachmatch/DA-17-75A1.pdf.

Synopsis

1. Section 3507(a)(3) of the Paperwork Reduction Act of 1995, 44 U.S.C. 3507(a)(3), requires agencies to display a current control number assigned by the Director of the Office of Management and Budget (“OMB”) for each agency information collection requirement.

2. Section 0.408 of the Commission's rules displays the OMB control numbers assigned to the Commission's public information collection requirements that have been reviewed and approved by OMB.

3. Authority for this action is contained in section 4(i) of the Communications Act of 1934 (47 U.S.C. 154(i)), as amended, and section 0.231(b) of the Commission's rules. Since this amendment is a matter of agency organization procedure or practice, the notice and comment and effective date provisions of the Administrative Procedures Act do not apply. See 5 U.S.C. 553(b)(A)(d). For this reason, this rulemaking is not subject to the Congressional Review Act and will not be reported to Congress and the Government Accountability Office. See 5 U.S.C. 801.

4. Accordingly, it is ordered, that section 0.408 of the rules is revised as set forth in the revised text, effective upon publication in the Federal Register.

5. Persons having questions on this matter should contact Walter Boswell at (202) 418-2178 or send an email to walter.boswell@fcc.gov.

List of Subjects in 47 CFR Part 0

Reporting and recordkeeping requirements.

Federal Communications Commission.
Mark Stephens,
Managing Director, Office of Managing Director.

Final Rules

For the reasons discussed in the preamble, the Federal Communications Commission amends 47 CFR part 0 as follows:

PART 0—COMMISSION ORGANIZATION

1. The authority citation for part 0 continues to read as follows:

Authority: Sec. 5, 48 Stat. 1068, as amended; 47 U.S.C. 155, 225, unless otherwise noted.

2. Section 0.408 is revised to read as follows:

§ 0.408 OMB control numbers and expiration dates assigned pursuant to the Paperwork Reduction Act of 1995.

(a) Purpose. This section displays the OMB control numbers and expiration dates for the Commission information collection requirements assigned by the Office of Management and Budget (“OMB”) pursuant to the Paperwork Reduction Act of 1995, Public Law 104-13. The Commission intends that this section comply with the requirement that agencies “display” current OMB control numbers and expiration dates assigned by the Director, OMB, for each approved information collection requirement. Notwithstanding any other provisions of law, no person shall be subject to any penalty for failing to comply with a collection of information subject to the Paperwork Reduction Act (PRA) that does not display a currently valid OMB control number. The expiration dates shown in this section are accurate as of January 31, 2017. New, revised, or extended information collections approved by OMB after that date can be found at https://www.reginfo.gov/public/do/PRAMain. Questions concerning the OMB control numbers and expiration dates should be directed to the Associate Managing Director—Performance Evaluation and Records Management, (PERM), Office of Managing Director, Federal Communications Commission, Washington, DC 20554 by sending an email to PRA@fcc.gov.

(b) Display.

OMB control No. | FCC form No. or 47 CFR section or part, docket No., or title identifying the collection | OMB expiration date
3060-0004 | Secs. 1.1307 and 1.1311 | 07/31/17
3060-0009 | FCC 316 | 12/31/18
3060-0010 | FCC 323 | 11/30/19
3060-0016 | FCC 2100, Schedule C | 07/31/19
3060-0017 | FCC 2100, Schedule D | 03/31/19
3060-0027 | FCC 301 and FCC 2100, Schedule A | 03/31/19
3060-0029 | FCC 340 | 08/31/17
3060-0031 | FCC 314 and FCC 315 | 09/30/18
3060-0053 | FCC 702 and FCC 703 | 05/31/17
3060-0055 | FCC 327 | 11/30/17
3060-0056 | Part 68—Connection of Terminal Equipment to the Telephone Network | 05/31/17
3060-0057 | FCC 731 | 04/30/17
3060-0059 | FCC 740 | 04/30/19
3060-0061 | FCC 325 | 01/31/20
3060-0065 | FCC 442 | 12/31/18
3060-0075 | FCC 345 | 04/30/19
3060-0076 | FCC 395 | 06/30/19
3060-0084 | FCC 323-E | 11/30/19
3060-0093 | FCC 405 | 09/30/17
3060-0095 | FCC 395-A | 05/31/17
3060-0110 | FCC 303-S | 12/31/19
3060-0113 | FCC 396 | 11/30/18
3060-0120 | FCC 396-A | 06/30/18
3060-0126 | Sec. 73.1820 | 08/31/17
3060-0132 | FCC 1068A | 01/31/18
3060-0139 | FCC 854 | 11/30/18
3060-0149 | Part 63—Application and Supplemental Information Requirements | 12/31/18
3060-0157 | Sec. 73.99 | 05/31/17
3060-0161 | Sec. 73.61 | 12/31/17
3060-0166 | Part 42, Secs. 42.5, 42.6 and 42.7 | 06/30/19
3060-0168 | Sec. 43.43 | 09/30/18
3060-0169 | Sec. 43.51 | 10/31/17
3060-0170 | Sec. 73.1030 | 02/28/19
3060-0171 | Sec. 73.1125 | 02/28/19
3060-0174 | Secs. 73.1212, 76.1615, and 76.1715 | 07/31/18
3060-0175 | Sec. 73.1250 | 10/31/19
3060-0176 | Sec. 73.1510 | 05/31/17
3060-0178 | Sec. 73.1560 | 01/31/20
3060-0179 | Sec. 73.1590 | 07/31/19
3060-0180 | Sec. 73.1610 | 01/31/19
3060-0182 | Sec. 73.1620 | 08/31/18
3060-0185 | Sec. 73.3613 | 10/31/17
3060-0188 | Call Sign Reservation and Authorization System | 02/28/19
3060-0190 | Sec. 73.3544 | 04/30/18
3060-0192 | Sec. 87.103 | 09/30/19
3060-0204 | Sec. 90.20(a)(2)(v) and 90.20(a)(2)(xi) | 09/30/17
3060-0207 | Part 11—Emergency Alert System (EAS) | 10/31/19
3060-0208 | Sec. 73.1870 | 01/31/18
3060-0213 | Sec. 73.3525 | 11/30/17
3060-0214 | Secs. 73.3526, 73.3527, 73.1212, 76.1701, and 73.1943 | 05/31/19
3060-0216 | Secs. 73.3538 and 73.1690(e) | 05/31/19
3060-0221 | Sec. 90.155 | 10/31/19
3060-0222 | Sec. 97.213 | 02/28/18
3060-0228 | Sec. 80.59 and FCC 806, 824, 827 and 829 | 08/31/18
3060-0233 | Part 54—High Cost Loop Support Reporting | 10/31/18
3060-0248 | Sec. 74.751 | 05/31/19
3060-0249 | Secs. 74.781, 74.1281, and 78.69 | 03/31/18
3060-0250 | Secs. 73.1207, 74.784 and 74.1284 | 04/30/17
3060-0259 | Sec. 90.263 | 04/30/18
3060-0261 | Sec. 90.215 | 05/31/19
3060-0262 | Sec. 90.179 | 03/31/17
3060-0264 | Sec. 80.413 | 05/31/18
3060-0265 | Sec. 80.868 | 04/30/19
3060-0270 | Sec. 90.443 | 02/28/19
3060-0281 | Sec. 90.651 | 02/28/19
3060-0286 | Sec. 80.302 | 12/31/18
3060-0288 | Sec. 78.33 | 05/31/17
3060-0289 | Secs. 76.601, 76.1704, 76.1705, and 76.1717 | 04/30/17
3060-0291 | Sec. 90.477(a), (b)(2), (d)(2) and (d)(3) | 05/31/17
3060-0292 | Part 69 and Sec. 69.605 | 06/30/19
3060-0295 | Sec. 90.607 | 01/31/19
3060-0297 | Sec. 80.503 | 06/30/18
3060-0298 | Part 61, Tariffs (Other than Tariff Review Plan) | 09/30/19
3060-0310 | FCC 322 | 11/30/17
3060-0311 | Sec. 76.54 | 03/31/17
3060-0316 | Secs. 76.1700, 76.1702, 76.1703, 76.1707, and 76.1711 | 05/31/19
3060-0320 | Sec. 73.1350 | 05/31/18
3060-0325 | Sec. 80.605 | 06/30/17
3060-0329 | Sec. 2.955 | 01/31/18
3060-0331 | FCC 321 | 10/31/17
3060-0332 | Secs. 76.614 and 76.1706 | 04/30/19
3060-0340 | Sec. 73.51 | 04/30/18
3060-0341 | Sec. 73.1680 | 10/31/17
3060-0346 | Sec. 78.27 | 04/30/18
3060-0347 | Sec. 97.311 | 07/31/17
3060-0349 | Secs. 73.2080, 76.73, 76.75, 76.79, and 76.1702 | 12/31/18
3060-0355 | FCC 492 and FCC 492A | 02/28/19
3060-0357 | Sec. 63.701 | 11/30/18
3060-0360 | Sec. 80.409 | 01/31/20
3060-0370 | Part 32—Uniform System of Accounts for Telecommunications Companies | 08/31/17
3060-0384 | Secs. 64.901, 64.904 and 64.905 | 06/30/19
3060-0386 | Secs. 1.5, 73.1615, 73.1635, 73.1740, 73.3598, 74.788, and FCC 337 | 03/31/19
3060-0387 | Secs. 15.201(d), 15.209, 15.211, 15.213 and 15.221 | 03/31/18
3060-0390 | FCC 395-B | 08/31/17
3060-0391 | Parts 54 and 36—Program to Monitor the Impacts of the Universal Service Support Mechanisms | 06/30/17
3060-0392 | Part 1, Subpart J—Pole Attachment Complaint Procedures | 03/31/19
3060-0394 | Sec. 1.420 | 11/30/19
3060-0398 | Secs. 2.948, 2.949, and 15.117(g)(2) | 09/30/19
3060-0400 | Tariff Review Plan (TRP) | 09/30/19
3060-0404 | FCC 350 | 05/31/19
3060-0405 | FCC 349 | 12/31/18
3060-0411 | FCC 485 | 11/30/17
3060-0414 | Terrain Shielding Policy | 04/30/18
3060-0419 | Secs. 76.94, 76.95, 76.105, 76.106, 76.107, and 76.1609 | 02/28/19
3060-0422 | Sec. 68.5 | 03/31/19
3060-0423 | Sec. 73.3588 | 11/30/19
3060-0430 | Sec. 1.1206 | 01/31/18
3060-0433 | FCC 320 | 04/30/17
3060-0439 | Sec. 64.201 | 06/30/19
3060-0441 | Secs. 90.621 and 90.693 | 06/30/18
3060-0463 | Telecommunications Relay Services and Speech-to-Speech Services for Individuals with Hearing and Speech Disabilities | 06/30/17
3060-0466 | Secs. 73.1201, 74.783 and 74.1283 | 09/30/19
3060-0470 | Secs. 64.901 and 64.903, and RAO Letters 19 and 26 | 08/31/17
3060-0473 | Sec. 74.1251 | 11/30/19
3060-0474 | Sec. 74.1263 | 06/30/17
3060-0484 | Secs. 4.9 | 01/31/20
3060-0489 | Sec. 73.37 | 04/30/18
3060-0496 | FCC Report 43-08 | 04/30/19
3060-0500 | Sec. 76.1713 | 07/31/19
3060-0501 | Secs. 73.1942, 76.206 and 76.1611 | 09/30/17
3060-0506 | FCC 302-FM | 09/30/17
3060-0508 | Part 1 and Part 22 Reporting and Recordkeeping Requirements | 04/30/18
3060-0512 | FCC Report 43-01 | 02/28/18
3060-0519 | Rules and Regulations Implementing the Telephone Consumer Protection Act (TCPA) of 1991 | 09/30/18
3060-0526 | Sec. 69.123 | 04/30/17
3060-0531 | Secs. 101.1011, 101.1325(b), 101.1327(a), 101.527, 101.529, and 101.103 | 06/30/18
3060-0532 | Secs. 2.1033 and 15.121 | 06/30/17
3060-0537 | Secs. 13.9(c), 13.13(c), 13.17(b), 13.211(e), and 13.217 | 06/30/19
3060-0546 | Sec. 76.59 | 02/28/19
3060-0548 | Secs. 76.1708, 76.1709, 76.1620, 76.56 and 76.1614 | 06/30/17
3060-0550 | FCC 328 | 08/31/18
3060-0560 | Sec. 76.911 | 08/31/18
3060-0562 | Sec. 76.916 | 01/31/19
3060-0565 | Sec. 76.944 | 01/31/18
3060-0568 | Secs. 76.970, 76.971 and 76.975 | 03/31/18
3060-0569 | Sec. 76.975 | 10/31/17
3060-0573 | FCC 394 | 03/31/18
3060-0580 | Sec. 76.1710 | 07/31/18
3060-0584 | FCC 44 and FCC 45 | 02/28/18
3060-0589 | FCC 159, FCC 159-B, FCC 159-C, FCC 159-E and 159-W | 05/31/17
3060-0594 | FCC 1220 | 12/31/18
3060-0599 | Secs. 90.187, 90.425 and 90.627 | 09/30/19
3060-0600 | FCC 175 | 06/30/19
3060-0601 | FCC 1200 | 12/31/18
3060-0607 | Sec. 76.922 | 11/30/17
3060-0609 | Sec. 76.934(e) | 12/31/18
3060-0625 | Sec. 24.103 | 02/28/19
3060-0626 | Sec. 90.483 | 11/30/19
3060-0627 | FCC 302-AM | 09/30/17
3060-0633 | Secs. 73.1230, 74.165, 74.432, 74.564, 74.664, 74.765, 74.832 and 74.1265 | 04/30/18
3060-0634 | Sec. 73.691 | 05/31/18
3060-0636 | Secs. 2.906, 2.909, 2.1071, 2.1075, 2.1076, 2.1077 and 15.37 | 05/31/18
3060-0645 | Secs. 17.4, 17.48 and 17.49 | 05/31/18
3060-0647 | FCC 333 | 09/30/18
3060-0649 | Secs. 76.1601, 76.1617, 76.1697 and 76.1708 | 03/31/19
3060-0652 | Secs. 76.309, 76.1602, 76.1603 and 76.1619 | 07/31/17
3060-0653 | Sec. 64.703(b) and (c) | 01/31/20
3060-0655 | Requests for Waivers of Regulatory and Application Fees | 11/30/19
3060-0665 | Sec. 64.707 | 06/30/19
3060-0667 | Secs. 76.630, 76.1621 and 76.1622 | 01/31/20
3060-0668 | Sec. 76.936 | 03/31/19
3060-0669 | Sec. 76.946 | 05/31/19
3060-0674 | Sec. 76.1618 | 05/31/17
3060-0678 | Part 25—Licensing of, and Spectrum Usage by, Commercial Earth Stations and Space Stations | 08/31/19
3060-0685 | FCC 1210 and FCC 1240 | 12/31/17
3060-0686 | FCC 214, FCC 412FCN, FCC 214TC and FCC 214STA | 02/28/18
3060-0687 | Access to Telecommunications Equipment and Services by Persons with Disabilities | 04/30/18
3060-0688 | FCC 1235 | 02/28/19
3060-0690 | Sec. 101.17 | 01/31/18
3060-0691 | Sec. 90.665 | 04/30/19
3060-0692 | Secs. 76.613, 76.802 and 76.804 | 02/28/19
3060-0695 | Sec. 87.219 | 07/31/17
3060-0698 | Secs. 25.203(i) and 73.1030(a)(2) | 01/31/20
3060-0700 | FCC 1275 | 05/31/19
3060-0703 | FCC 1205 | 12/31/17
3060-0704 | Secs. 42.10, 42.11 and 64.1900 and Section 254(g) | 09/30/17
3060-0706 | Secs. 76.952 and 76.990 | 01/31/20
3060-0707 | Over-the Air Reception Devices (OTARD) | 10/31/19
3060-0710 | Parts 1 and 51—Implementation of Local Competition Provisions in the Telecommunications Act of 1996 | 09/30/19
3060-0713 | Alternative Broadcast Inspection Program (ABIP) Compliance Notification | 02/28/17
3060-0715 | Carriers' Use of Customer Proprietary Network Information and Other Customer Information | 09/30/17
3060-0716 | Secs. 73.88, 73.718, 73.685 and 73.1630 | 04/30/18
3060-0717 | Secs. 64.703(a), 64.709 and 64.710 | 06/30/17
3060-0718 | Part 101—Terrestrial Microwave Fixed Radio Service | 02/28/19
3060-0719 | Quarterly Report of IntraLATA Carriers Listing Payphone Automatic Number Identifications | 06/30/19
3060-0723 | Sec. 276—Public Disclosure of Network Information by Bell Operating Companies (BOCs) | 07/31/18
3060-0725 | Quarterly Filing of Nondiscrimination Reports by Bell Operating Companies (BOCs) | 06/30/18
3060-0727 | Sec. 73.213 | 04/30/18
3060-0737 | Disclosure Requirements for Information Services Provided Under a Presubscription or Comparable Arrangement | 10/31/17
3060-0740 | Sec. 95.1015 | 07/31/17
3060-0741 | Technology Transitions | 01/31/20
3060-0742 | Secs. 52.21 through 52.36 | 09/30/19
3060-0743 | Pay Telephone Reclassification and Compensation Provisions of the Telecommunications Act of 1996 | 06/30/19
3060-0745 | Local Exchange Carrier Tariff Streamlining Provisions of the Telecommunications Act of 1996 | 07/31/18
3060-0748 | Secs. 64.1504, 64.1509 and 64.1510 | 02/28/19
3060-0750 | Secs. 73.671 and 73.673 | 07/31/17
3060-0751 | Sec. 43.51 | 09/30/19
3060-0754 | FCC 2100, Schedule H | 04/30/18
3060-0755 | Secs. 59.1 through 59.4 | 01/31/18
3060-0760 | 272 Sunset Order and Access Charge Reform | 10/31/17
3060-0761 | Sec. 79.1 | 12/31/17
3060-0767 | Secs. 1.2110, 1.2111 and 1.2112 | 04/30/17
3060-0768 | 28 GHz Band | 02/28/18
3060-0770 | Sec. 61.49 | 11/30/17
3060-0773 | Sec. 2.803 | 06/30/17
3060-0775 | Sec. 64.1903 | 07/31/19
3060-0779 | Secs. 90.20(a)(1)(iii), 90.769, 90.767, 90.763(b)(l)(i)(a), 90.763(b)(l)(i)(B), 90.771(b) and 90.743 | 01/31/20
3060-0783 | Sec. 90.176 | 12/31/17
3060-0787 | Subscriber Carrier Selection Changes Provisions of the Telecommunications Act of 1996—Unauthorized Changes of Consumers' Long Distance Carriers | 07/31/17
3060-0788 | DTV Showings/Interference Agreements | 04/30/19
3060-0790 | Sec. 68.110(c) | 05/31/18
3060-0791 | Sec. 32.7300 | 05/31/18
3060-0795 | FCC 606 | 08/31/17
3060-0798 | FCC 601 | 06/30/19
3060-0799 | FCC 602 | 10/31/19
3060-0800 | FCC 603 | 03/31/18
3060-0804 | FCC 460, FCC 461, FCC 462, FCC 463, FCC 465, FCC 466, and FCC 467 | 09/30/19
3060-0805 | Secs. 90.523, 90.527, 90.545 and 90.1211 | 07/31/17
3060-0806 | FCC 470 and FCC 471 | 12/31/18
3060-0807 | Sec. 51.803 and Supplemental Procedures for Petitions to Sec. 252(e)(5) | 05/31/19
3060-0809 | Communications Assistance for Law Enforcement Act | 12/31/19
3060-0812 | Exemption from Payment of Regulatory Fees When Claiming Non-Profit Status | 02/28/18
3060-0813 | Sec. 20.18 | 02/28/18
3060-0816 | FCC 477 | 06/30/17
3060-0817 | BOC Provision of Enhanced Services (ONA Requirements) | 06/30/18
3060-0819 | FCC 481, FCC 497, and FCC 555 | 09/30/19
3060-0823 | Part 64, Pay Telephone Reclassification | 05/31/17
3060-0824 | FCC 498 | 11/30/18
3060-0837 | FCC 2100, Schedule B | 03/31/19
3060-0844 | Cable Carriage of Television Broadcast Stations | 03/31/19
3060-0848 | Deployment of Wireline Services Offering Advanced Telecommunications Capability | 03/31/18
3060-0849 | Commercial Availability of Navigation Devices | 07/31/17
3060-0850 | FCC 605 | 05/31/17
3060-0853 | FCC 479, FCC 486 and FCC 500 | 12/31/19
3060-0854 | Sec. 64.2401 | 09/30/18
3060-0855 | FCC 499-A and FCC 499-Q | 12/31/17
3060-0856 | FCC 472, FCC 473 and FCC 474 | 06/30/19
3060-0859 | Suggested Guidelines for Petitions for Ruling under Sec. 253 | 03/31/18
3060-0862 | Handling Confidential Information | 07/31/17
3060-0863 | Satellite Delivery of Network Signals to Unserved Households | 05/31/17
3060-0865 | Universal Licensing System Recordkeeping and Third-Party Disclosure Requirements | 02/28/17
3060-0874 | Consumer Complaint Portal | 07/31/19
3060-0876 | Sec. 54.703 and Secs. 54.719 through 54.725 | 10/31/18
3060-0881 | Sec. 95.861 | 05/31/17
3060-0882 | Sec. 95.833 | 07/31/17
3060-0888 | Secs. 76.7, 76.9, 76.61, 76.914, 76.1001, 76.1003, 76.1302 and 76.1513 | 01/31/18
3060-0895 | FCC 502 | 07/31/19
3060-0896 | Broadcast Auction Form Exhibits | 09/30/17
3060-0905 | Sec. 18.213 | 06/30/17
3060-0906 | FCC 2100, Schedule G | 10/31/17
3060-0910 | Ensure Compatibility with Enhanced 911 Emergency Calling Systems | 05/31/18
3060-0912 | Secs. 76.501, 76.503 and 76.504 | 01/31/18
3060-0917 | FCC 160 | 02/28/17
3060-0918 | FCC 161 | 02/28/17
3060-0920 | FCC 318 | 03/31/19
3060-0922 | FCC 397 | 11/30/18
3060-0927 | Auditor's Annual Independence and Objectivity Certification | 01/31/18
3060-0928 | FCC 2100, Schedule F and Sec. 73.3572(h), 73.3700(b)(3) and 73.3700(h)(2) | 03/31/19
3060-0931 | Sec. 80.103 | 08/31/18
3060-0932 | FCC 2100, Schedule E and Secs. 73.3700(b)(1)(i)-(v) and (vii), (b)(2)(i) and (ii), and 74.793(d) | 03/31/19
3060-0936 | Secs. 95.1215, 95.1217, 95.1223, and 95.1225 | 10/31/19
3060-0937 | Establishment of a Class A Television Service | 05/31/19
3060-0938 | FCC 319 | 12/31/17
3060-0942 | Access Charge Reform, Price Cap Performance Review for Local Exchange Carriers, Low-Volume Long Distance Users, Federal-State Joint Board on Universal Service | 05/31/19
3060-0944 | Secs. 1.767 and 1.768, FCC 220, and Executive Order 10530 | 02/28/18
3060-0950 | Bidding Credits for Tribal Lands | 04/30/19
3060-0951 | Sec. 1.1204(b) Note, and Sec. 1.1206(a) Note 1 | 08/31/19
3060-0952 | Proposed Demographic Information and Notifications, | 02/28/19
3060-0953 | Secs. 95.1111 and 95.1113 | 08/31/19
3060-0960 | Secs. 76.122, 76.123, 76.124 and 76.127 | 01/31/20
3060-0967 | Sec. 79.2, 79.105, and 79.106 | 04/30/17
3060-0971 | Sec. 52.15 | 05/31/17
3060-0972 | Part 69 Filing Requirements for Regulation of Interstate Services of Non-Price Cap Incumbent Local Exchange Carriers and Interexchange Carriers | 06/30/17
3060-0973 | Sec. 64.1120(e) | 06/30/19
3060-0975 | Secs. 68.105 and 1.4000 | 08/31/19
3060-0979 | License Audit Letter | 11/30/18
3060-0980 | Sec. 76.66 | 02/28/19
3060-0984 | Secs. 90.35(b)(2) and 90.175(b)(1) | 09/30/19
3060-0986 | FCC 481, FCC 507, FCC 508, FCC 509, and FCC 525 | 03/31/17
3060-0987 | Sec. 20.18(l)(1)(i)-(iii) and 20.18(l)(2)(i)-(iii) | 08/31/17
3060-0989 | Secs. 63.01, 63.03 and 63.04 | 04/30/17
3060-0991 | AM Measurement Data | 01/31/18
3060-0994 | Flexibility for Delivery of Communications by Mobile Satellite Service Providers in the 2 GHz Band, the L-Band, and the 1.6/2.4 GHz Band | 10/31/18
3060-0995 | Sec. 1.2105(c) and 1.2205 | 06/30/19
3060-0996 | AM Auction Section 307(b) Submissions | 05/31/17
3060-0997 | Sec. 52.15(k) | 07/31/17
3060-0998 | Sec. 87.109 | 04/30/19
3060-0999 | Sec. 20.19, Hearing Aid Compatibility Status Report, FCC 655 | 11/30/18
3060-1000 | Sec. 87.147 | 08/31/19
3060-1003 | Communications Disaster Information Reporting System | 07/31/18
3060-1004 | Commission Rules to Ensure Compatibility with Enhanced 911 Emergency Calling Systems | 06/30/18
3060-1005 | Numbering Resource Optimization—Phase 3 | 04/30/17
3060-1008 | Secs. 27.50 and 27.602 | 08/31/17
3060-1013 | Mitigation of Orbital Debris | 02/28/18
3060-1015 | Part 15—Ultra Wideband Transmission Systems | 11/30/17
3060-1021 | Sec. 25.139 | 11/30/19
3060-1022 | Secs. 101.1403, 101.103(f), 101.1413, 101.1440 and 101.1417 | 05/31/17
3060-1028 | International Signaling Point Code (ISPC) | 11/30/18
3060-1029 | Data Network Identification Code (DNIC) | 11/30/18
3060-1030 | Service Rules for Advanced Wireless Services (AWS) in the 1.7 GHz and 2.1 GHz Bands | 01/31/18
3060-1031 | Commission's Initiative to Implement Enhanced 911 (E911) Emergency Services | 01/31/19
3060-1033 | FCC 396-C | 10/31/18
3060-1034 | FCC 335-AM and FCC 335-FM | 02/28/19
3060-1035 | FCC 309, FCC 310 and FCC 311 | 01/31/20
3060-1039 | FCC 620 and FCC 621 | 10/31/17
3060-1042 | Request for Technical Support—Help Request Form | 03/31/19
3060-1044 | Review of the Section 251 Unbundling Obligations of Incumbent Local Exchange Carriers | 05/31/19
3060-1045 | FCC 324 and Sec. 76.1610 | 12/31/17
3060-1046 | Part 64, Pay Telephone Reclassification and Compensation Provisions of the Telecommunications Act of 1996 | 08/31/17
3060-1047 | Telecommunications Relay Services and Speech-to-Speech Services for Individuals with Hearing and Speech Disabilities, FCC 03-112 | 10/31/17
3060-1048 | Sec. 1.929(c)(1) | 11/30/18
3060-1050 | Sec. 97.303 | 04/30/19
3060-1053 | Two-Line Captioned Telephone Order and IP Captioned Telephone Service Declaratory Ruling, and Internet Protocol Captioned Telephone Service Reform Order | 03/31/18
3060-1054 | FCC 422-IB | 09/30/18
3060-1056 | FCC 421-IB | 07/31/18
3060-1057 | FCC 420-IB | 07/31/18
3060-1058 | FCC 608 | 04/30/18
3060-1060 | Wireless E911 Coordination Initiative Letter to State 911 Coordinators | 12/31/19
3060-1063 | Global Mobile Personal Communications by Satellite (GMPCS) Authorization, Marketing and Importation Rules | 09/30/18
3060-1064 | Regulatory Fee Assessment True-Ups | 07/31/17
3060-1065 | Sec. 25.701 | 11/30/18
3060-1070 | Allocation and Service Rules for the 71-76 GHz, 81-86 GHz and 92-95 GHz Bands | 10/31/17
3060-1078 | Rules and Regulations Implementing the Controlling the Assault of Non-Solicited Pornography and Marketing Act of 2003 (CAN-SPAM Act), CG Docket 04-53 | 09/30/19
3060-1079 | Sec. 15.240 | 12/31/19
3060-1080 | Improving Public Safety Communications in the 800 MHz Band; TA-13.1 and TA-14.1 | 10/31/17
3060-1081 | Secs. 54.202, 54.209, 54.307, 54.313, 54.314 and 54.809 | 09/30/17
3060-1084 | Rules and Regulations Implementing Minimum Customer Account Record Obligations on All Local and Interexchange Carriers, CG Docket No. 02-386 | 05/31/19
3060-1085 | Sec. 9.5 | 07/31/18
3060-1086 | Secs. 74.787, 74.790, 74.794, 74.796 and 74.798 | 03/31/19
3060-1087 | Sec. 15.615 | 04/30/17
3060-1088 | Rules and Regulations Implementing the Telephone Consumer Protection Act (TCPA) of 1991 | 05/31/19
3060-1089 | Telecommunications Relay Services and Speech-to-Speech Services for Individuals with Hearing and Speech Disabilities, E911 Requirements for IP-Enabled Service Providers | 08/31/17
3060-1092 | FCC 609-T and FCC 611-T | 01/31/20
3060-1094 | Licensing, Operation, and Transition of the 2500-2690 MHz Band | 03/31/17
3060-1095 | Surrenders of Authorizations for International Carrier, Space Station and Earth Station Licensees | 01/31/18
3060-1096 | Prepaid Calling Card Service Provider Certification | 07/31/19
3060-1101 | Children's Television Requests for Preemption Flexibility | 12/31/18
3060-1103 | Sec. 76.41 | 01/31/19
3060-1104 | Sec. 73.682(d) | 02/28/17
3060-1108 | Consummations of Assignments and Transfers of Control of Authorization | 02/28/18
3060-1113 | Commercial Mobile Alert System (CMAS) | 07/31/17
3060-1116 | Submarine Cable Reporting | 01/31/18
3060-1120 | Service Quality Measurement Plan for Interstate Special Access and Monthly Usage Reporting Requirements | 09/30/17
3060-1121 | Secs. 1.30002, 1.30003, 1.30004, 73.875, 73.1657 and 73.1690 | 02/28/17
3060-1122 | Preparation of Annual Reports to Congress for the Collection & Expenditure of Fees or Charges for Enhanced 911 (E911) Services under the NET 911 Improvement Act of 2008 | 03/31/18
3060-1124 | Sec. 80.231 | 12/31/17
3060-1126 | Sec. 10.350 | 04/30/18
3060-1127 | First Responder Emergency Contact Information in the Universal Licensing System (ULS) | 03/31/19
3060-1129 | Broadband Speed Test and Unavailability Registry | 04/30/19
3060-1131 | Implementation of the NET 911 Improvement Act of 2008: Location Information from Owners and Controllers of 911 and E911 Capabilities | 06/30/19
3060-1133 | FCC 308 and Secs. 73.3545 and 73.3580 | 07/31/18
3060-1138 | Secs. 1.49 and 1.54 | 06/30/19
3060-1139 | Consumer Broadband Services Testing and Measurement | 05/31/17
3060-1142 | Electronic Tariff Filing System (ETFS) | 11/30/19
3060-1145 | Structure and Practices of the Video Relay Service Program | 08/31/17
3060-1146 | Implementation of the 21st Century Communications and Video Accessibility Act of 2010, Section 105, Relay Services for Deaf-Blind Individuals, CG Docket No. 10-210 | 06/30/18
3060-1147 | Wireless E911 Phase II Location Accuracy Requirements | 05/31/18
3060-1148 | Sec. 79.3 | 01/31/20
3060-1149 | Generic Clearance for the Collection of Qualitative Feedback on Agency Service Delivery | 06/30/17
3060-1150 | Structure and Practices of the Video Relay Service Program, Second Report and Order, CG Docket No. 10-51 | 05/31/18
3060-1151 | Secs. 1.1420, 1.1422, and 1.1424 | 03/31/18
3060-1154 | Commercial Advertisement Loudness Mitigation (“CALM”) Act; Financial Hardship and General Waiver Requests | 06/30/18
3060-1155 | Secs. 15.713, 15.714, 15.715, 15.717 and 27.1320 | 05/31/19
3060-1156 | Sec. 43.62 | 02/28/18
3060-1157 | Formal Complaint Procedures, Preserving the Open Internet and Broadband Industry Practices | 09/30/17
3060-1158 | Disclosure of Network Management Practices, Preserving the Open Internet and Broadband Industry Practices | 12/31/19
3060-1159 | Part 25—Satellite Communications; and Part 27—Miscellaneous Wireless Communications Services in the 2.3 GHz Band | 10/31/19
3060-1161 | Sec. 27.14(g)-(l) | 10/31/17
3060-1162 | Closed Captioning of Video Programming Delivered Using Internet Protocol, and Apparatus Closed Captioning Requirements | 09/30/18
3060-1163 | Regulations Applicable to Common Carrier and Aeronautical Radio Licensees | 10/31/18
3060-1165 | Sec. 74.605 | 12/31/17
3060-1166 | FCC 180 | 01/31/18
3060-1167 | Accessible Telecommunications and Advanced Communications Services and Equipment | 01/31/20
3060-1168 | FCC 680 | 01/31/18
3060-1169 | Part 11—Emergency Alert System (EAS), FCC 12-7 | 08/31/18
3060-1170 | Sec. 90.209 | 04/30/18
3060-1171 | Secs. 73.682(e) and 76.607(a) | 06/30/18
3060-1174 | Secs. 73.503, 73.621 and 73.3527 | 07/31/18
3060-1177 | Sec. 74.800 | 06/30/19
3060-1178 | FCC 2100, Schedule 399; and Sec. 73.3700(e) | 03/31/19
3060-1180 | Expanding the Economic and Innovation Opportunities of Spectrum Through Incentive Auctions | 08/31/18
3060-1181 | Study Area Boundary Data Reporting in Esri Shapefile Format | 06/30/19
3060-1183 | Establishment of a Public Safety Answering Point Do-Not-Call Registry, CG Docket 12-129 | 02/28/19
3060-1184 | Secs. 1.946(d), 27.10(d), 27.12, 27.14 and 27.17 | 07/31/19
3060-1185 | FCC 690 and Record Retention Requirements | 05/31/19
3060-1186 | FCC 480 | 01/31/18
3060-1189 | Secs. 1.1307(b)(1), 20.3, 20.21(a)(2), 20.21(a)(5), 20.21(e)(2), 20.21(e)(8)(i)(G), 20.21(e)(9)(i)(H), 20.21(f), 20.21(h), 22.9, 24.9, 27.9, 90.203, 90.219(b)(l)(i) | 06/30/18
3060-1190 | Sec. 87.287(b) | 06/30/19
3060-1192 | Survey for Urban Rates for Fixed Voice and Fixed Broadband Residential Services | 08/31/19
3060-1194 | FCC 338 | 01/31/19
3060-1195 | US Telecom Forbearance FCC 13-69 Conditions | 06/30/17
3060-1196 | Inmate Calling Services Data Collection | 06/30/17
3060-1197 | Comprehensive Market Data Collection for Interstate Special Access Services | 08/31/17
3060-1198 | Secs. 90.525, 90.529 and 90.531 | 04/30/18
3060-1199 | Sec. 15.407(j) | 08/31/17
3060-1200 | FCC 5610 and FCC 5620 | 09/30/18
3060-1201 | Structure and Practices of the Video Relay Service Program; Telecommunications Relay Services and Speech-to-Speech Services for Individuals with Hearing and Speech Disabilities | 09/30/17
3060-1202 | Improving 911 Reliability and Continuity of Communications Including Networks, Broadband Technologies | 10/31/17
3060-1203 | Secs. 79.107, 79.108 and 79.110 | 08/31/19
3060-1204 | Deployment of Text-to-911 | 04/30/18
3060-1205 | Sec. 74.802 | 03/31/18
3060-1206 | FCC 2100, Schedule 381 | 03/31/18
3060-1207 | Secs. 25.701 and 25.702 | 05/31/19
3060-1208 | Acceleration of Broadband Deployment by Improving Wireless Facilities Siting Policies | 05/31/18
3060-1209 | Sec. 73.1216 | 02/28/19
3060-1210 | Wireless E911 Location Accuracy Requirements | 07/31/18
3060-1211 | Secs. 96.17, 96.21, 96.23, 96.33, 96.35, 96.39, 96.41, 96.43, 96.45, 96.51, 96.57, 96.59, 96.61, 96.63, 96.67 | 04/30/17
3060-1212 | SDARS Political Broadcasting Requirements | 11/30/18
3060-1213 | FCC 177 | 06/30/19
3060-1214 | Direct Access to Numbers Order, FCC 15-70, Conditions | 07/31/19
3060-1215 | Use of Spectrum Bands Above 24 GHz for Mobile Radio Services | 01/31/20
3060-1216 | Sections 73.3700(b)(4)(i)-(ii), (c), (d), (h)(5)-(6), (g)(4) | 03/31/19
3060-1217 | Ensuring Continuity of 911 Communications | 03/31/19
3060-1218 | Carriage of Digital Television Broadcast Signals | 05/31/19
3060-1219 | Connect America Fund-Alternative Connect America Cost Model Support | 09/30/19
3060-1220 | Transparency Rule Disclosures, FCC 15-24, Mobile Broadband Disclosures | 12/31/18
3060-1221 | Inmate Calling Services, One-Time Data Collection | 01/31/20
3060-1222 | Inmate Calling Services, Annual Reporting, Certification and Consumer Disclosure | 01/31/20
3060-1223 | Payment Instructions from the Eligible Entity Seeking Reimbursement from the TV Broadcaster Relocation Fund | 07/31/17
3060-1224 | Reverse Auction (Auction 1001) Incentive Payment Instructions from Reverse Auction Winning Bidder | 07/31/17
3060-1225 | National Deaf-Blind Equipment Distribution Program | 01/31/20
3060-1226 | Receiving Written Consent for Communication with Base Stations in Canada | 01/31/20

[FR Doc. 2017-04768 Filed 3-9-17; 8:45 am]

BILLING CODE 6712-01-P